DEPARTMENT OF THE INTERIOR

Bureau of Land Management

[LLMT926000-L14400000.BJ0000; 15XL1109AF; MO#4500081852]

Notice of Filing of Plats of Survey; Montana

AGENCY: Bureau of Land Management, Interior.

ACTION: Notice of filing of plats of survey.

SUMMARY: The Bureau of Land Management (BLM) will file the plats of survey of the lands described below in the BLM Montana State Office, Billings, Montana, on September 3, 2015.

DATES: Protests of the survey must be filed before September 3, 2015 to be considered.

ADDRESSES: Protests of the survey should be sent to the Branch of Cadastral Survey, Bureau of Land Management, 5001 Southgate Drive, Billings, Montana 59101-4669.

FOR FURTHER INFORMATION CONTACT: Andrew Varilek, Cadastral Surveyor, Branch of Cadastral Survey, Bureau of Land Management, 5001 Southgate Drive, Billings, Montana 59101-4669, telephone (406) 896-5166 or (406) 896-5003, ajvarile@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Field Manager, Lewistown Field Office, and was necessary to delineate Federal lands. The lands we surveyed are:

Principal Meridian, Montana

T. 12 N., R. 22 E.

The plat, in two sheets, representing the dependent resurvey of a portion of the east boundary and a portion of the subdivisional lines and the subdivision of sections 13, 14, 23, 24, and 25, Township 12 North, Range 22 East, Principal Meridian, Montana, was accepted July 21, 2015.

T. 11 N., R. 23 E.

The plat, in one sheet, representing the dependent resurvey of a portion of the north boundary and a portion of the subdivisional lines and the subdivision of section 6, Township 11 North, Range 23 East, Principal Meridian, Montana, was accepted July 21, 2015.

We will place a copy of the plats, in three sheets, and related field notes we described in the open files. They will be available to the public as a matter of information. If the BLM receives a protest against this survey, as shown on these plats, in three sheets, prior to the date of the official filing, we will stay the filing pending our consideration of the protest. We will not officially file these plats, in three sheets, until the day after we have accepted or dismissed all protests and they have become final, including decisions or appeals.

Authority: 43 U.S.C. Chap. 3.

Joshua F. Alexander,
Acting Chief, Branch of Cadastral Survey, Division of Energy, Minerals and Realty.

[FR Doc. 2015-19051 Filed 8-3-15; 8:45 am]

BILLING CODE 4310-DN-P